DEPARTMENT OF THE INTERIOR

Fish and Wildlife Service

Recovery Plan for the Carson Wandering Skipper (Pseudocopaeodes eunus obscurus)

AGENCY: Fish and Wildlife Service, Interior.

ACTION: Notice of document availability.

SUMMARY: We, the U.S. Fish and Wildlife Service (Service), announce the availability of the recovery plan for the Carson wandering skipper (Pseudocopaeodes eunus obscurus). The plan includes recovery criteria and measures for the conservation of the Carson wandering skipper in California and Nevada.

ADDRESSES: You may obtain a copy of the plan by either of the following methods:

Internet: Download a copy at http://endangered.fws.gov/recovery/index.html#plans, or

U.S. mail: Send a request to U.S. Fish and Wildlife Service, Nevada Fish and Wildlife Office, 1340 Financial Boulevard, Suite 234, Reno, NV 89502.

FOR FURTHER INFORMATION CONTACT: Marcy Haworth, Fish and Wildlife Biologist, at the above Reno address (telephone: 775-861-6300).

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species, establish criteria for the recovery levels for downlisting or delisting them, and estimate time and cost for implementing the recovery measures needed.

Section 4(f) of the Endangered Species Act (Act) (16 U.S.C. 1531 et seq.) requires us to provide public notice and an opportunity for public review and comment during recovery plan development. We made the draft recovery plan for the Carson wandering skipper available for public comment from March 2, 2006, through May 31, 2006 (71 FR 10703). We considered information we received during the public comment period in our preparation of this final recovery plan, and also summarized that information in an appendix of the recovery plan. We will forward substantive comments regarding recovery plan implementation to appropriate Federal or other entities so they can take these comments into account in the course of implementing recovery actions.

The Carson wandering skipper (Pseudocopaeodes eunus obscurus) is a small butterfly in the subfamily Hesperiinae (grass skippers). This subspecies is federally listed as endangered. Only four extant populations are known from Washoe County and Douglas County, Nevada, and Lassen County, California. A fifth known population of the subspecies, from Carson City, Nevada, is considered extirpated as of 1998.

Our goal for this subspecies is to recover it to the point where downlisting and eventually delisting would be appropriate. Recovery criteria include protection and management in perpetuity of the existing populations, without downward population trends; development and implementation of adaptive management plans; and discovery or establishment of one or more additional populations.

Authority

The authority for this action is section 4(f) of the Endangered Species Act, 16 U.S.C. 1533(f).

Dated: September 6, 2007.
Ken McDermond,
Acting Manager, California/Nevada Operations Office, U.S. Fish and Wildlife Service.

[FR Doc. E7-18042 Filed 9-12-07; 8:45 am]

BILLING CODE 4310-55-P